DEPARTMENT OF LABOR

Employment and Training Administration

Solicitation for Grant Applications (SGA) Job Training Partnership Act, Title III-B: Skills Shortages, Partnership Training/System Building Demonstration Program

AGENCY: Employment and Training Administration, Labor.

ACTION: Notice of availability of funds and solicitation for grant applications (SGA).

This Notice Contains All of the Necessary Information and Forms Needed To Apply for Grant Funding.

SUMMARY: The U.S. Department of Labor (DOL), Employment and Training Administration (ETA) announces a competitive demonstration solicitation for grant applications (SGA) to respond to employers' identified skill shortages through the establishment or strengthening of regional consortia. Grants will be made to successful applicants which provide evidence of being positioned to plan and implement a successful strategy to respond to shortages of workers seeking employment with skills needed by specific employers in a regional labor market (including typical local commuting area). Successful applicants must also initiate a skill training design for preparing eligible dislocated workers, incumbent workers and new entrants into the workforce that will alleviate skill shortages within the region which the applicant represents and provide the necessary skill sets to those seeking new employment or reemployment.

The funding for this program will be the demonstration authority of the Secretary's National Reserve Account appropriated for Title III-B of the Job Training Partnership Act (JTPA) of 1982, as amended, and administered in accordance with 29 CFR parts 95 and 97, as applicable.

Applicants are also encouraged to be familiar with the provisions of the Workforce Investment Act of 1998 (WIA). As the Department moves toward implementation of WIA which becomes effective July 1, 2000, and for the next few years, it is anticipated that even greater emphasis will be placed on regional and unified planning and other initiatives to accommodate or address regional workforce development concerns. It is expected that the consortia established or strengthened as a result of the award of these demonstration grant funds will actively collaborate with the emerging structures of WIA implementation.

The Department encourages interested applicants to consult with other on-going programs such as grantees funded by the June 1998 $7.7 million dislocated worker technology demonstration and the June 1999 $10 million manufacturing technology demonstration program. Information regarding these demonstrations may be found at http://www.doleta.gov. In addition, experiences gained through current regional initiatives may provide insight into developing a regional consortia approach to addressing workforce development needs and strategies.

In addition to partnership-building activities to address skill shortages, the grants funded as a result of this SGA will support assessment of community employment needs (community audits), designing or adapting training curricula based upon specific “just-in-time” employer needs, and limited operational testing of a training design. Partnerships and systems for responding to skill shortages developed as a part of this demonstration will be expected to continue, and indeed improve and expand, after the conclusion of this initiative.

One objective of this demonstration initiative is to inform local workforce investment boards and chief elected officials in the development of policies that respond effectively to area employers' needs for skilled workers. Of particular interest to the Department are broad-based strategies that address such issues as shortages in technology, health care, and H-1B visa-identified occupations. Consortia developed in response to this solicitation could be appropriate for applicants to apply for skill training grants established under the American Competitiveness and Workforce Improvement Act of 1998 (ACWIA). Eligible applicants for the ACWIA grants are limited by statute to Private Industry Councils (PICs) established under JTPA Section 102, local Workforce Investment Boards (WIBs) under Section 117 of the Workforce Investment Act of 1998 (WIA), and consortia of PICs or WIBs. For this reason, WIB and/or PIC participation in activities conducted under these grants is a requirement to show satisfactory progress toward achieving the objectives of this demonstration program.

DATES: The closing date for receipt of the application is Thursday, March 30, 2000. Applications must be received by 4 p.m. eastern standard time. No exceptions to the mailing and hand-delivery conditions set forth in this notice will be granted. Applications that do not meet the conditions set forth in this notice will not be considered. Telefacsimile (FAX) applications will not be honored.

ADDRESSES: Applications must be mailed or hand-delivered to: U.S. Department of Labor, Employment and Training Administration, Division of Federal Assistance, Attention: B. Jai Johnson, Reference: SGA/DFA-102; 200 Constitution Avenue, N.W., Room S-4203; Washington, DC 20210.

Hand Delivered Proposals. If proposals are hand delivered, they must be received at the designated address by 4:00 p.m., Eastern Standard Time on Thursday, March 30, 2000. All overnight mail will be considered to be hand delivered and must be received at the designated place by the specified closing date and time. Telegraphed, e-mailed and/or faxed proposals will not be honored. Failure to adhere to the above instructions will be a basis for a determination of nonresponsiveness.

Late Proposals. A proposal received at the designated office after the exact time specified for receipt will not be considered unless it is received before the award is made and it:

• Was sent by U.S. Postal Service registered or certified mail not later than the fifth (5th) calendar day before the closing date specified for receipt of applications (e.g., an offer submitted in response to a solicitation requiring receipt of applications by the 20th of the month must be mailed by the 15th);

• Was sent by U.S. Postal Service Express Mail Next Day Service, Post Office to Addressee, not later than 5 p.m. at the place of mailing two working days prior to the deadline date specified for receipt of proposals in this SGA. The term “working days” excludes weekends and U.S. Federal holidays.

The only acceptable evidence to establish the date of mailing of an application received after the deadline date for the receipt of proposals sent by the U.S. Postal Service registered or certified mail is the U.S. postmark on the envelope or wrapper affixed by the U.S. Postal Service and on the original receipt from the U.S. Postal Service. The term “post marked” means a printed, stamped, or otherwise placed impression (exclusive of a postage meter machine impression) that is readily identifiable without further action as having been supplied or affixed on the date of mailing by employees of the U.S. Postal Service.

Withdrawal of Applications. Applications may be withdrawn by written notice or telegram (including mailgram) received at any time before an award is made. Applications may be withdrawn in person by the applicant or by an authorized representative thereof, if the representative's identity is made known and the representative signs a receipt for the proposal.

FOR FURTHER INFORMATION CONTACT: Questions/clarifications should be faxed to B. Jai Johnson, Grants Management Specialist, Division of Federal Assistance at (202) 219-8739 (this is not a toll free number). All inquiries should include the SGA/DFA-102 and contact name, fax and phone number. This solicitation will also be published on the Internet, on the Employment and Training Administration (ETA) Home Page at http://www.doleta.gov. Award notifications will also be published on the ETA Home Page.

SUPPLEMENTARY INFORMATION: ETA is soliciting proposals on a competitive basis for the conduct of partnership system-building activities to assist entities in developing the capacity to plan and implement regional skill shortage training strategies. It is envisioned that these entities will be multi-jurisdictional, and may well be multi-State, serving a regional labor market area.

This announcement consists of five (5) parts:

• Part I—Background Summary: describes the authorities, the purpose and the goals of the solicitation for this demonstration program;

• Part II—Eligible Applicants and Application Process: describes the capabilities of organizations authorized to apply for funds under this program as well as some examples of the types of organizations which will be considered and the partnerships they represent, the application process and requirements for submitting an application (deadlines);

• Part III—Statement of Work: contains the Statement of Work for the projects that will be funded under this demonstration initiative;

• Part IV—Independent Evaluation and Reporting Requirements: provides for the independent evaluation of the grants awarded for this demonstration and describes the reviews that will be conducted by DOL of each of the projects; and notes the requirements for reports to DOL and the independent evaluator; and

• Part V—Rating Criteria for Award and Selection Process: describes the selection process, including the criteria which will be used in reviewing and evaluating all applications received by DOL as a result of this solicitation.

See Appendix “C” for Definitions

Part I. Background

A. Authority

Section 323(a)(6) of JTPA, as amended (29 U.S.C. 166(b)), authorizes the use for demonstration programs of funds reserved under section 302 of JTPA (29 U.S.C. 1652) and provided by the Secretary for that purpose under section 322 of JTPA (29 U.S.C. 1662a). In addition, the DOL FY 1999 Appropriations Act authorizes dislocated worker demonstration projects that provide assistance to new entrants in the workforce and incumbent workers.

B. Purpose

The growth in the U.S. economy and the increasing global competition that has occurred throughout the 1990's has been accompanied by significant restructuring actions regarding the organization and performance of work in many industries. These actions have redefined the job performance requirements in these industries and have resulted in the dual effects of substantial numbers of worker layoffs and of reported shortages of workers skilled in other areas.

As a result, employers and employees alike are facing increasing challenges in their efforts to remain competitive. Increased competition, along with other factors such as reductions in the defense industry, relocation of facilities outside the United States, and technological advances in manufacturing processes, have resulted in significant reductions in the size of many employers' workforces. The increased adoption of technology has resulted in the realization that the skills of many workers are redundant and must be upgraded in order for them to be able to compete in the current economy and for them to be successful candidates for available jobs in the future. In an effort to encourage regional workforce investment leaders to address the challenge of keeping their citizens employed and competitive and ensuring the health of the businesses on which their community depends for its economic stability, this initiative will allow for the maximum flexibility in approaches to establishing and/or enhancing partnerships that will address skill shortages now and in the future.

Part II. Eligible Applicants and the Application Process

A. Eligible Applicants

Any organization capable of fulfilling the terms and conditions of this solicitation may apply. Eligible organizations include the following, both individually and as part of a consortium: Private Industry Councils (PICs), local Workforce Investment Boards (WIBs) or consortia of PICs or WIBs; employers; business and trade associations; labor unions; post-secondary educational institutions including community colleges; economic development agencies, and private-sector led groups including community- and faith-based organizations addressing the needs of specific cultures, among others.

Regional consortia may be interstate in composition to accommodate adequate coverage of a cohesive labor markets or regional communities, including typical commuting patterns. No minimum size for the geographic or labor market to be covered by this demonstration program has been established, and the smallest grants may cover single local workforce investment areas. A key goal of this initiative is to encourage regional approaches to cover the commuting area from which employers in the region draw or hire their employees.

B. Demonstrated Capacity

Awards will be made to applicants that demonstrate to the satisfaction of the Department the capacity in conjunction with the local workforce investment system(s) (under the policy direction of the local board(s) and chief elected officials) and other partners to—

1. Develop a collaborative, integrated regional approach for the involvement, design and implementation of a comprehensive skill shortage action plan. The basic design of the plan shall be sufficiently robust to respond to current and projected skill shortages in the region.

2. Collect information on current (real time) local employer based skill needs and the availability of workers who possess such skills in the labor market and available training resources to meet the established or developed standards of the local employer or industry;

3. Design a training strategy, that may include curricula, to respond to at least one specific skills shortage that currently exists in the region.

4. Test the plan on a small scale, by implementing the training strategy developed and placing those trained in related employment that meets or exceeds the outcome goals of the grant; and

5. Incorporate lessons learned into the local workforce investment system(s).

Note: As discussed later in this SGA, these areas of expertise are not viewed or presented by the Department as discrete or sequential activities, but rather to delineate the expected capacity of any successful candidate's application for funding under this Solicitation.

C. Financial Management Capability

The applicant must demonstrate to the satisfaction of the Department that it has the financial management capacity to receive federal funds in accordance with Sections 164 and 165 of the Job Training Partnership Act. A consortium organized for the purpose of responding to this SGA may designate one entity of the group as the fiscal agent to manage the funds in the event an award is granted.

D. Cooperation With DOL, Technical Assistance Contractor and the Independent Demonstration Evaluation Contractor

An applicant must commit to sharing on-going information with DOL and its independent evaluators. The applicant must also agree to participate with the DOL technical assistance contractor in its progress assessments. As part of the acceptance of a grant award the applicant agrees to participate in conference calls during the course of the demonstration and attend and conduct workshops at conferences and other meetings to assist with further guidance throughout the workforce investment system, as necessary and appropriate. A reasonable amount of grant funds may be earmarked for this purpose.

E. Partnerships

The establishment of creative partnership configurations that include representatives of employers with skill shortages and are broadly representative of community interest is strongly encouraged. It is highly recommended that applicants submit a statement (or chart) that shows how the actual or proposed configuration represents fully the community at large and how each partner adds value to the skill shortage assessment and planning process. Other federal partners, where present and appropriate, are suggested for inclusion in any consortium, such as the U.S. Department of Commerce Manufacturing Extension Program, Department of Housing and Urban Development neighborhood and community enhancement programs and others.

F. Support From Consortium Members

The partnerships that are being established are an important part of any application. Each applicant is encouraged to include letters of support signed by proposed consortium members, including the PIC Chair(s) or the local WIB chair(s) (if a PIC or local board is not the applicant, or if the proposal covers a consortia of PICs or local boards). Consideration should be given to demonstrations of support from representatives of key groups who are likely to have a significant impact on the likely success of this project in the region. Grant-funded consortium-building activities operating in the local workforce investment area should be viewed by the local board and chief elected officials as a mechanism to improve the capacity of the area to address skill shortages and to provide the types of training opportunities that result in improved outcomes for workers and an adequate supply of trained workers for employers.

The application must also describe a preliminary agreement of key regional stakeholders (beyond the required parties described above) to those activities to be undertaken the course of operation described in the application, as well as a description of other organizations or individuals who are likely to be added to the list of collaborators, and what they are expected to contribute to the initiative.

Proposal Submission

Applicants must submit four (4) copies of their proposal, with original signatures. The proposal must consist of two (2) distinct parts, Part I and Part II.

Part I of the proposal shall contain the Standard Form (SF) 424, “Application for Federal Assistance” (Appendix #A) and Budget Form (Appendix #B). The Federal Domestic Assistance Catalog number is 17.246. Applicants shall indicate on the SF 424 the organization's IRS status, if applicable. According to the Lobbying disclosure Act of 1995, section 18, an organization described in section 501(c)(4) of the Internal Revenue Code of 1986 which engages in lobbying activities shall not be eligible for the receipt of federal funds constituting an award, grant, or loan. The individual signing the (SF) 424 on behalf of the applicant must represent the responsible financial and administrative entity for a grant should that application result in an award.

The budget (Appendix #B) shall include on separate pages a detailed breakout of each proposed budget line item found on the Budget Information Sheet, including detailed administrative costs. An explanation of how the budget costs were derived must be included. The Salaries line item shall be used to document the project staffing plan by providing a detailed listing of each staff position providing more than .05 FTE support to the project, by annual salary, number of months assigned to demonstration responsibilities, and FTE percentage to be charged to the grant. In addition, for the Contractual line item, list each of the planned contracts and the amount of the contract. Where a contract amount exceeds $75,000, a detailed backup budget to show how the amount of the contract was derived must be included. For each budget line item that includes funds or in-kind contributions from a source other than the grant funds, identify the source, the amount and in-kind contributions, including any restrictions that may apply to these funds.

DOL will convene a two-day grantee orientation meeting in Washington, D. C. Attendance will be mandatory for all grantees for this demonstration program. We anticipate this meeting to be scheduled within 45 days of the award of grants to allow sufficient time to have all project managers present as well as other appropriate representatives of the regional consortia in attendance. Travel for two or three individuals to attend this meeting should be included in the grant budget.

Part II must contain a technical proposal that demonstrates the applicant's capabilities in accordance with the Statement of Work contained in this document. The grant application is limited to 30 one-sided, double-spaced pages on 8.5 x 11 inch paper with 1-inch margins which must include the following:

I. Executive summary—(1 page)

II. Application narrative technical proposal

III. Time line implementation plan and the appendix

Funding/Period of Performance

It is anticipated that up to $10 million will be available for funding these demonstrations. It is expected that 15 to 25 awards will be made, depending upon the quality of the proposals received and the amount of funds requested and awarded. The maximum grant award will be $750,000.

Twenty percent of the grant amount, up to a maximum of $100,000 , will be made available upon announcement of the grant award. The funds will be released in phases: (1) Planning for up to possibly 6 months; and, (2) implementation—this phase will only take place pending approval. The remaining grant funds will be made available based upon achievement of progress benchmarks consistent with the purposes of the Job Training Partnership Act, the Workforce Investment Act and this demonstration initiative. No option year funding will be available for this demonstration program. Future funding will be the responsibility of stakeholders, including employers, local Boards and other members of the community.

The maximum duration of any project will be 24 months, beginning on the date of a signed award. This includes closeout time and preparation of the draft final report. Successful grantees will be expected to commence operations within 30 days of the award date. If the applicant anticipates that a period longer than the 30 days will be required prior to commencing operations, it should be stated in the application and provide an explanation for the expected delay.

Part III. Statement of Work

A. Background

On January 12, 1999, during his summit on 21st Century Skills for 21st Century jobs, Vice President Gore announced a major new skills shortage initiative to accomplish two purposes:

• To promote the creation of regional consortia to assess employers' need for skilled workers and workers' skills deficits, and

• To provide resources to established partnerships to provide technical skill training to incumbent and unemployed workers.

Traditionally, overall tight labor markets and even skill shortages are good for workers in that they can lead to rising wages, improved working conditions, and new opportunities for workers and new labor market entrants. However, problematic regional or sectoral industry skills shortages—those that occur when there is imbalance between worker supply and demand for a persistent period of time—can mean that particular goods and services are not provided and that the economy is operating less efficiently than it could. At the microeconomic level, i.e., for individual employers, the inability to find an adequate supply of workers even after offering higher wages and better working conditions can cause a loss of business and profits.

B. Purpose

This demonstration will support the creation of regional alliances for the development and implementation of skills training strategies focused on qualifying significant numbers of participants to work within the identified occupations at specific companies experiencing such shortages. This initiative acknowledges that communities and regions will be at different starting points in their responses to skill shortages. It is envisioned that this demonstration will be used to build a coalition of community-wide leaders to work with specific employers to identify skill shortages and then develop processes for ameliorating or eliminating them or to strengthen an existing partnership.

A major challenge, then, becomes how does a local workforce investment system work with employers to identify the skills they need, develop the necessary “just-in-time” training to respond to the need, and outreach to the workers who are being laid off soon enough to acquire the skills needed for the jobs that employers have. Another challenge to the community is how to encourage individuals currently in the workforce to continually upgrade their skills (life-long learning) so that if a layoff occurs the transition to a new job can be quicker and smoother—a benefit to the economic well-being of the community and the economic security of the family.

C. Activities Conducted as Part of Demonstration Program

There are four phases (or elements since they may run concurrently in some circumstances) in this initiative described below. Throughout the demonstration, it is expected that there will be cooperation with and active collaboration and consultation with the regional workforce investment system(s). This means that if the region which is proposed to be covered by the application submitted in response to this solicitation covers more than one local area designated pursuant to JTPA or WIA, the cooperation and consultation must take place from the onset of the development of application with the appropriate representatives and organizations in each local area, and on a continuing basis as plans, policies and systems are developed and implemented under a funded project. If there are regional strategies such as those authorized under WIA Section 116(c) in place currently, DOL expects those relationships will be built upon for the purpose of this initiative.

1. Coalition Building

The first phase or element of a project will be the development and solidification of the coalition of all the partners—including community businesses (and business organizations), labor organizations, educational institutions—into a functioning entity.

Skill shortage assessment and planning is a dynamic process—reflecting the changing nature of business demands and labor market supplies. It is therefore anticipated that the partnerships established under this rubric would be open-ended and invite additional members—in particular from private industry—as emerging needs are perceived or additional sectors of industry are considered for further strategic planning.

A significant aspect of coalition building is the resources that partners can bring to the table and contribute to the partnership. DOL is not requiring a match for this competition. However, a major emphasis of this effort is to create entities and relationships which can sustain themselves once the partnership building grant has expired, and a key aspect of that sustainability will be the amount of resources—both cash and in kind—that can be generated by the participants in the partnership. Sustainability is an important consideration for the full implementation of the action plan, beyond the scope of this grant, that will be developed as part of this project and which is discussed immediately below.

2. Plan Development

The second phase or element of the project will involve activities to assess specific employer skill needs and to measure the gaps between the skills needed by industry and the skills held by dislocated and incumbent workers in the region. The application must identify what is known regarding the skill shortage needs of the employers, the present skill needs of the workforce and the training resources available to meet these needs. The selection of the assessment tools necessary to add to the existing body of knowledge including data sources, survey instruments, interview protocols, etc., as well as measurement processes, is a key aspect of the development of a strategy to address skill shortages.

The plan will enumerate the data sources that are used to support the statement of skill shortages. Coalitions are encouraged to research widely and be inclusive in utilization of data. Resources for general skill shortage information include data generated by the Bureau of Labor Statistics (BLS) (such as the Current Population Survey (CPS) and the Occupational Employment Statistics (OES) survey), by regional and local trade associations, and by national and regional business associations (such as the U.S. Chamber of Commerce). However, the action plan will also be required to deal with current and short term needs of local employers identified, in part, as a result of initiatives developed as a result of this demonstration program such as community audits, evaluated in the context of the skills of workers currently seeking reemployment or employment. Regional and local hiring patterns as provided by local industry and trade associations are also extremely valuable information in terms of any sustained skills shortage.

An analysis of the data information developed will result in a formulation of a training strategy that will be agreed to and signed off by all of the partners in the coalition and signed off on by the local board(s) if it is not an active member of the coalition. The certification by the local board in the latter instance will attest that this proposed specific training strategy is not inconsistent with and does not conflict with the activities of the workforce investment system and does not constitute the development of a parallel workforce investment system. Activities that may be part of the action plan include the identification, design and/or adaptation of appropriate training curricula to meet the needs of skill shortage occupational areas or to reflect the employment demands of key regional businesses or industries.

3. Operational Testing and Assessment

The third phase of the project (which may, in fact, occur concurrently with other phases or other elements) will be to test the plan and the training strategy by training eligible individuals described in this SGA in the skills identified as a result of the first two elements of this demonstration program. Thus, although planning and capacity/partnership building are the primary objectives, grantees will be required to test any new curricula they develop and, in a limited trial fashion, to implement the action plan that they formulate. The test is required to see if the strategy developed can be operationalized, and if not, what changes need to be made. This test should be conducted to work out whatever imperfections there are in the action plan, so that upon completion of this grant period, the partnership is prepared to successfully implement the action plan on a fully operational basis. Most of the training to be conducted in this test period, will be relatively of an intensive or compressed nature.

a. Operational Activities. Applicants must describe training activities like those authorized under JTPA Sec. 314 which will be conducted as part of the testing under this demonstration. The description should include how and through what entity(ies) trainees will be outreached and selected; what entity will have operational responsibility for the training and case management activities; the expected outcomes (jobs) for the trainees, including wage goals. Because the application will likely not know what skill training will be provided as part of the demonstration, the description of the training activities to be funded as part of the test will at first need to be more conceptual. Information should describe how training providers will be selected; how curricula will be developed or modified; how eligible individuals will be identified or recruited; and the types of assessments (including employer assessments) that will be used to identify candidates who would be likely to be able to be trained in the identified skill.

b. Participant Services. Three (3) categories of individuals who may be trained with any funds awarded as a result of this demonstration are eligible dislocated workers, incumbent workers and new entrants.

The application will describe at what points during the operation of a demonstration the training is likely to occur. In other words, testing of a training concept or process is not limited to a period of time in any project that other “phases” or “segments” have been completed.

Prior to the release of additional funds, the applicant must identify the entities responsible for the following:

• Determining eligibility,

• Selecting individuals for training or referral to employers participating in the demonstration for screening;

• Case management and other services (such as orientation to employer expectations, internships, supportive services, etc.,) that will be available to maximize the trainees' success in completing the training and

• Developing and filling job openings identified as part of the employers' participation in this demonstration.

• Addressing contingencies for trainees who encounter difficulties and for whom alternative reemployment strategies must be developed outside the demonstration.

• Developing opportunities for work-based training which may or may not be in conjunction with classroom training (if not held on site or not a type of contextual training). The application must discuss how will internships or other hands-on training will be made part of the curricula.

• Arranging for trainees to receive credit toward some kind of credential that provides evidence of accomplishment in the event a participant later changes jobs.

Other categories of individuals may be served through processes developed under projects implemented as a result of this solicitation, using resources other than demonstration grant funds to support training expenses.

4. Internal Monitoring and Evaluation/Next Steps

a. Project Benchmarks

A time line (appendix to the application) must be provided of implementation and project performance benchmarks covering the period of performance of the project. The monthly schedule of planned implementation activities and start-up events (including benchmarks such as completion of lease arrangements for space, selection of an employer or community advisory group, advisory group meetings, hiring of staff, completion of data collection survey, design of customer satisfaction measures, development of a participant selection policy, initiation of customer satisfaction activities for employers and participants).

b. Quantitative projections

A chart indicating quarterly projections of cumulative expenditures should be included with the grant application. A chart providing planned participant activity levels—enrollments, assignment to training, entered employment (or retained employment) and terminations—will be required prior to the release of the balance of the grant funds. It is recognized that expenditure projections also relate to participant activity will be subject to change as the consortia has more data with which to plan.

It is expected that there will be ongoing reports (at least quarterly, although monthly during the early stages of the project are recommended) by the demonstration project director to the consortia signatories. Further, it is expected that there will be sufficient opportunity to review decisions made and strategies implemented if circumstances change or initial project design proves to be unproductive or insufficiently productive to proceed further. These reports and an active interest on the part of the key leadership in the Region and the entities involved will serve as a progress review and oversight function to ensure continuous improvement of the strategy and its implementation.

As indicated in the coalition building section and reemphasized here, part of this initiative also will be to explore the resources that the newly joined partners in the regional consortia can bring to the table. DOL is not imposing a matching requirement on this procurement. One of the key questions that has emerged with regard to this partnership initiative revolves around the issue of sustainability, i.e., how will these newly emerging partnerships keep themselves going once Federal funding abates? Clearly, one of the root factors in this area will be whether the partnership has managed to establish a viable financial base, as well as the leadership to ensure that the community can build a “just-in-time” response to the needs of the employers and the workers, and continually improve the systems to meet this long-term commitment. At the end of the grant period, the grantee will be expected to prepare an assessment of the activities undertaken as part of the project, in particular providing an assessment of whatever operational testing was carried out under the authority of the project. That assessment will comprise a portion of the final report for the project. This requirement is in addition to the evaluation report that will be prepared by the independent evaluator.

D. Outcome Goals

Outcome goals for this demonstration program include, but are not limited to the:

1. Formation of region skills alliances to collaborate in implementing integrated strategies in response to employer needs;

2. Identification of ways to best respond to reported skill shortages;

3. Testing the viability of conducting on-going community audits to help avoid future skill shortages and to assist in community- or regional-wide planning for adjusting to economic change;

4. Development of a broad based consortium which will continue after the conclusion of this demonstration.

5. Development of a process for collecting information and responding to employer needs which can be used by local workforce investment boards and chief elected officials as a basis for policy development for the local one stop system.

6. Providing American workers the skills they need to access quality jobs that provide for economic self-sufficiency and long-term employability security.

In addition, the operational phase(s) of the program should demonstrate connections between training provided to participants and the industries where participants are employed. Unless otherwise provided for in the grant, it is expected that 95% of the participants placed in jobs will find employment with those businesses or industries for which the training strategy is implemented. For dislocated workers, the wage replacement rate is expected to be 90% or better; for incumbent workers and new entrants, the wage rates will be consistent with requirements in the proposal, and any subsequent negotiations, taking into consideration each application's description of these populations that will be trained as part of any funded project.

E. Staffing

Each grantee will be expected to hire a full-time project manager who will begin within 30 days of the grant award to ensure that an appropriate level of effort is committed to the success of the initiative. A tentative staffing plan should be provided listing each position with a brief description of the position and the percentage of time to be devoted to the demonstration project. The individual with primary accountability for the implementation of the demonstration should be identified, with the information provided as to where this key individual will be placed in the organizational structure and to whom he/she will report.

Part IV. Independent Evaluation and Reporting Requirements

As part of the agreement for the receipt of funds under this solicitation, each Grantee is required to provide reports and documents as well as participate in evaluation and review activities described below. DOL will arrange for or provide technical assistance to grantees in establishing appropriate reporting and participant data collection methods and processes taking into account the applicant's project management plan. An effort will be made to accommodate and provide assistance to grantees to be able to complete all reporting electronically.

A. Independent Evaluation

DOL will contract for an independent evaluator of all phases of projects funded under this Solicitation. The purpose of the evaluation is to inform the system on all phases of the demonstration program in order that others who subsequently establish such partnerships to address skill shortages may learn from grantees' experiences. Each Grantee is required to participate in this effort.

B. Quarterly Financial Reports

Each grantee must submit to the Grant Officer's Technical Representative (GOTR) identified in each grant agreement within the 30 days following the end of each quarter, three copies of a quarterly Financial Status Report (SF 269) until such time as all funds have been expended or the period of availability has expired.

C. Progress Reports

The grantee must submit brief narrative progress reports. The reports will be submitted monthly during the early organizational and planning phase of the project and quarterly when additional funding has been released. These reports are due 15 days following the end of each reporting period during which the project is operational (funded). The quarters end March 31, June 30, September 30 and December 31.

D. Other Documents or Reports To Be Submitted to DOL

1. The grantee must submit a copy of the signed partnership agreement upon completion of the agreement, or when modified thereafter. The agreement shall include a written statement of operating principles and procedures defining roles and decision-making processes for each member of the partnership, as appropriate, as well as the overall principles and procedures of the partnership. It must include the frequency of meetings and how the review and oversight function will be conducted.

2. The grantee must submit a copy of the signed action plan upon completion of the plan, and when modified thereafter.

3. Final Report. A draft final report which summarizes project activities and results of the demonstration shall be submitted no later than 15 days after the expiration date of the grant. The grantee's assessment of operational testing activities under the grant is to be included. The final report shall be submitted in 3 copies no later than 60 days after the grant expiration date. It is expected that this report includes information on challenges to the system and how those challenges were overcome as well as what worked best and what did not work as well, or did not work at all.

Part V. Rating Criteria for Award and Selection Process

A careful evaluation of applications will be made by a technical review panel who will evaluate the applications against the criteria listed in the SGA. The panel results are advisory in nature and not binding on the Grant Officer. The Government may elect to award grants with or without discussions with the offerors. In situations without discussions, an award will be based on the offeror's signature on the Standard Form (SF) 424, which constitutes a binding offer. The Government reserves the right to make awards under this section of the solicitation to ensure geographical balance. The Grant Officer will make final award decisions based upon what is most advantageous to the Federal Government in terms of technical quality, responsiveness to this Solicitation (including goals of the Department to be accomplished by this solicitation) and other factors.

Rating Criteria

A. Overall Statement of Problem and Objectives (5 points)

A concise statement clearly setting forth the problem(s) to be addressed and the objectives for accomplishing the purposes of the grant.

B. Regional Characteristics (15 points)

1. Region Description. The applicant must provide a clear statement describing the region or area that the partnership will encompass. The description must enumerate concisely the economic conditions of the region. Socioeconomic and demographic data may be used to buttress the discussion. Judicious use of relevant statistical information is encouraged. This must identify the characteristics that make this area a cohesive region.

2. Employer Characteristics. A discussion of the general business environment, including some emphasis on small and medium-sized businesses, the characteristics of the major employers in the region and in particular, identification of those employers—both major and small and medium-sized—that have experienced skill shortages. The application should include a discussion of the nature of the skills shortages as presently known and the extent to which additional areas of information needed to develop a response strategy and action plan and what is the nature of those shortages.

3. Identified Data Needs. The extent to which the applicant identified the additional information regarding the employer community necessary for the development of an action plan and training strategy.

C. Strength of the Consortium (15 points)

1. Partners and Roles. The applicant should enumerate who the partners are in this endeavor and how they will link together-i.e., what role each will play. This may be presented in chart form. The Department is interested in a broad representation of organizations and entities that are identified as able to contribute to this effort to address reported employer skills shortages in a timely and responsive manner. The application must clearly differentiate between actual and prospective partners.

2. Private Sector Involvement. This section should articulate ties to the private sector, including ties with small-and medium-sized businesses and small business federations and businesses with skill shortages. Provide in detail the role of the private sector-employers, employer associations and training providers (where appropriate) in developing the application.

3. Resources provided by partners. A discussion of what resources, actual and leveraged, each partner will bring to the partnership. (This topic should also be discussed from a cost/dollar perspective, under the cost effectiveness criterion.) Although ETA has not imposed a matching requirement upon this procurement, applicants are strongly encouraged to enumerate in substantial detail exactly what assets the partners propose to contribute. Identify additional sources of support to be pursued if the grant is funded.

4. Role of training institutions. The development of a training strategy to equip individuals in the Region with the skills to address the skill shortages identified is important to the outcomes of the overall demonstration. This training may be accomplished through customized training contracts or through the Individual Training Account mechanisms established by the local workforce investment systems. In selecting a training approach, applicants will need to consider the replicability of the approach for other workforce investment systems as well as the sustainability of the approach under the WIA program design developed in the local area. The rationale on which consideration of the selection process will take occur or the approach most likely to be selected should be discussed. Note: There is no particular approach that is favored by DOL. However, since the sustainability of the project will depend to some extent on the local or regional WIA program training designs, it will be important to recognize the philosophy of WIA training in developing the project's training rationale.

5. Sustainability of the partnership and strategies. To be highly rated under this criterion, applicants must provide a detailed discussion of how the partnership will sustain itself once the Federal grant funding has expired. Clearly, establishing a strong resource base is a significant factor in resolving that question.

D. Prospective Target Population (20 points)

1. Characteristics of the target population. The description of the characteristics of those individuals the plan envisions serving should be clear and sufficiently detailed to determine the potential participants' service needs. If the individuals to be served will be drawn from one eligible group of participants (by industry, working status, etc.) the application should so state and provide the rationale for that group's selection. Describe the extent to which target populations will be drawn from groups under represented in the targeted industries/occupations.

2. Documentation of available participants. Documentation should be provided showing that a significant number of eligible incumbent and dislocated workers are available for participation within the project area.

E. Strategy and Service Plan (20 points)

1. Collection and Data Analysis. The extent to which the applicant provides information about the approach to data collection and analysis, specifically citing rationale for methodology selected for data collection, responsibilities assigned regarding collection and analysis, and timeliness of data collection and analysis as it relates to development of an action plan and training strategy.

2. Strategy. The extent to which the proposed strategy approach addresses:

a. identification of the region or geographical area within the region to be served,

b. the relationship of the employers' skill shortages and employment needs, including an assessment of the current workforce's skills in the skill shortages identified or confirmed as a result of the data collection and analysis, and

c. the employment and training needs of the targeted population to assure that the required demonstration outcomes are achieved.

3. Geographic, neighborhood or industry concentration. Applicants are strongly encouraged to include under represented communities and populations particularly those that may reside in Empowerment Zones and Enterprise Communities (EZ/ECs) in the region, or industries, and/or areas in the community or region that have been targeted for other assistance that together with funds from this initiative may result in sufficient concentration of resources to achieve even greater goals than those established for this demonstration.

4. Participant Services. While this Solicitation envisions only limited operational testing of the action plan, it is expected that some participants will be served during the period of this start up grant. Applicants must describe with clarity the participant focus of projected activities (from outreach/recruitment, assessment, case management, and supportive services to job search and placement activities) that will emanate from the action plan. It is expected that the appropriate mix of services will be tailored to the characteristics of the target population.

F. Previous Experience and Management Plan (15 points)

1. Previous individual staff experience and experience of partner organizations. Applicants should provide a detailed discussion of specific experience in the activities contemplated by the Solicitation. The kinds and quality of experience the regional skills alliance (including the applicant and other partners) has had in economic planning including the use of economic and demographic data to identify skill shortage occupations. The level and quality of experience the applicant and other partners have in curriculum planning and development. The quality of the experience the partners bring to the demonstration regarding occupational skill training.

2. Staffing. The application should include resumes of key staff who will be expected to play a key role in the first six months of the project implementation. As noted above, it may well be that the individual staff members do not have substantive experience in partnership building activities. Therefore, it will be acceptable to demonstrate that the key staff has substantial background in economic planning and other activities (e.g., curriculum development) contemplated as part of the coalition building effort for this initiative.

3. Management Plan. The application should include a management plan for how this grant will be administered. The structure under which the project will operate must be carefully described and must identify the lines of authority for accountability for the achievement of the project goals. The required time line will indicate the key benchmark achievements identified by the applicant and the timeframe for their accomplishment. It is recommended that the time line include such benchmarks as the selection and hiring of staff, finalization of an MOU with all demonstration project partners, selection of the methodology for gathering and analyzing necessary data to determine the occupational areas of skill shortages and employer needs, the identification of training needs and appropriate curricula, initial testing of training to meet employer skill shortage needs, formation of any subcommittees to focus on particular aspects of the demonstration activity, establishment of policies for the selection of participants and employers, approval of training strategy, assessment of customer satisfaction and assurance of continuous improvement efforts, and schedule for review of progress reports. This list is not meant to be inclusive, but rather to illustrate some activities to be accomplished that could serve as benchmarks for oversight review and for negotiation with DOL in determining the appropriate time for the release of the balance of demonstration grant funds.

G. Cost Effectiveness (10 points)

Applicants will provide a detailed cost proposal including a detailed discussion of the expected cost effectiveness of their proposal. This discussion should be couched in terms of the reasonableness of the cost in relation to the activities planned, including such factors as the geographic area covered by the proposed project, the number and range of the partners, the operational testing of the action plan (in particular, training). Expenses should be identified that will be incurred in terms of establishing and/or strengthening the collaborative, cooperative partnership. The cost benefits of assessing community needs and curriculum development should also be addressed. Benefits can be described both qualitatively in terms of the value of established cooperative relationships and skills attained and quantitatively in terms of wage gains and cost savings resulting from collaborative efforts and activities.

In view of the fact that there will be relatively little actual provision of services to individuals, proposals will have to discuss costs and benefits, to some extent, in terms of projected participants. This may, of necessity, involve a certain amount of hypothetical model building.

However, it is anticipated that applicants would have a fully completed and tested action plan which is ready to be fully implemented upon completion of this grant, so that the model building could produce some excellent guide posts for the successful applicant to use in carrying out this grant.

Signed in Washington, DC, this 22nd day of February, 2000.
Laura Cesario,
Grant Officer.

Appendix “A”—Standard Form (SF) 424

Appendix “B”—Budget Information Sheet

Appendix “C”—Definitions

BILLING CODE 4510-30-P

[FR Doc. 00-4580 Filed 2-25-00; 8:45 am]

BILLING CODE 4510-30-C